FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 012350.

Title: Hoegh/Hyundai Glovis West Africa Space Charter Agreement.

Parties: Hoegh Autoliners AS and Hyundai Glovis Co. Ltd.

Filing Party: Wayne R. Rohde, Esq.; Cozen O'Connor; 1627 I Street NW., Suite 1100; Washington, DC 20036.

Synopsis: The agreement authorizes the parties to charter space to each other in the trade between the U.S. East and Gulf Coasts on the one hand, and Benin and Nigeria, on the other hand.

Agreement No.: 012351.

Title: Zim/NYK Equipment Repositioning Agreement.

Parties: ZIM American Integrated Shipping Service, Ltd. and Nippon Yusen Kaisha.

Filing Party: Mark E. Newcomb; ZIM American Integrated Shipping Services, Co., LLC; 5801 Lake Wright Dr.; Norfolk, VA 23508.

Synopsis: The agreement authorizes the parties to charter slots on each other's vessels for the carriage of empty containers.

By Order of the Federal Maritime Commission.
Dated: July 10, 2015.
Karen V. Gregory,
Secretary.

[FR Doc. 2015-17362 Filed 7-14-15; 8:45 am]

BILLING CODE 6731-AA-P